DEPARTMENT OF THE INTERIOR

Fish and Wildlife Service

Issuance of Permit for Marine Mammals

On June 15, 2000, a notice was published in the Federal Register, Vol. 65, No. 116, Page 37568, that an application had been filed with the Fish and Wildlife Service by Felix G. Widlacki, Orland Park, IL, for a permit (PRT-028560) to import a sport-hunted polar bear (Ursus maritimus) trophy, taken from the Norwegian Bay polar bear population, Northwest Territories, Canada for personal use.

Notice is hereby given that on July 26, 2000, as authorized by the provisions of the Marine Mammal Protection Act of 1972, as amended (16 U.S.C. 1361 et seq.) the Fish and Wildlife Service authorized the requested permit subject to certain conditions set forth therein.

On May 22, 2000,a notice was published in the Federal Register, Vol. 65, No. 99, Page 32120, that an application had been filed with the Fish and Wildlife Service by Peter M. Shaw, Foristell, MO, for a permit (PRT-027207) to import a sport-hunted polar bear (Ursus maritimus) trophy, taken from the Northern Beaufort Sea polar bear population, Northwest Territories, Canada for personal use.

Notice is hereby given that on July 26, 2000, as authorized by the provisions of the Marine Mammal Protection Act of 1972, as amended (16 U.S.C. 1361 et seq.) the Fish and Wildlife Service authorized the requested permit subject to certain conditions set forth therein.

On May 22, 2000,a notice was published in the Federal Register, Vol. 65, No. 99, Page 32120, that an application had been filed with the Fish and Wildlife Service by Samuel Francis, Goshen, KY, for a permit (PRT-027386) to import a sport-hunted polar bear (Ursus maritimus) trophy, taken from the McClintock Channel polar bear population, Northwest Territories, Canada for personal use.

Notice is hereby given that on July 26, 2000, as authorized by the provisions of the Marine Mammal Protection Act of 1972, as amended (16 U.S.C. 1361 et seq.) the Fish and Wildlife Service authorized the requested permit subject to certain conditions set forth therein.

On June 15, 2000,a notice was published in the Federal Register, Vol. 65, No. 116, Page 37568, that an application had been filed with the Fish and Wildlife Service by Robert McCreary, Newaygo, MI, for a permit (PRT-028559) to import a sport-hunted polar bear (Ursus maritimus) trophy, taken from the Southern Beaufort sea polar bear population, Northwest Territories, Canada for personal use.

Notice is hereby given that on August 1, 2000, as authorized by the provisions of the Marine Mammal Protection Act of 1972, as amended (16 U.S.C. 1361 et seq.) the Fish and Wildlife Service authorized the requested permit subject to certain conditions set forth therein.

On June 8, 2000,a notice was published in the Federal Register, Vol. 65, No. 111, Page 36454, that an application had been filed with the Fish and Wildlife Service by George H. Brimhall, Paradise Valley, AZ, for a permit (PRT-027988) to import a sport-hunted polar bear (Ursus maritimus) trophy, taken from the McClintock Channel polar bear population, Northwest Territories, Canada for personal use.

Notice is hereby given that on August 2, 2000, as authorized by the provisions of the Marine Mammal Protection Act of 1972, as amended (16 U.S.C. 1361 et seq.) the Fish and Wildlife Service authorized the requested permit subject to certain conditions set forth therein.

On June 15, 2000,a notice was published in the Federal Register, Vol. 65, No. 116, Page 37569, that an application had been filed with the Fish and Wildlife Service by Douglas L. Buell, Michigan City, IN, for a permit (PRT-028561) to import a sport-hunted polar bear (Ursus maritimus) trophy, taken from the Norwegian Bay polar bear population, Northwest Territories, Canada for personal use.

Notice is hereby given that on August 3, 2000, as authorized by the provisions of the Marine Mammal Protection Act of 1972, as amended (16 U.S.C. 1361 et seq.) the Fish and Wildlife Service authorized the requested permit subject to certain conditions set forth therein.

On June 8, 2000, a notice was published in the Federal Register, Vol. 65, No. 111, Page 36454, that an application had been filed with the Fish and Wildlife Service by Stanley S. Gulub, Chester, NJ for a permit (PRT-028044) to import one polar bear (Ursus maritimus) trophy taken from the Lancaster Sound population, Canada for personal use.

Notice is hereby given that on August 7, 2000, as authorized by the provisions of the Marine Mammal Protection Act of 1972, as amended (16 U.S.C. 1361 et seq.) the Fish and Wildlife Service authorized the requested permit subject to certain conditions set forth therein.

On June 8, 2000, a notice was published in the Federal Register, Vol. 65, No. 111, Page 36454, that an application had been filed with the Fish and Wildlife Service by Gordon F. Kolling, Hermosa, SD for a permit (PRT-028044) to import one polar bear (Ursus maritimus) trophy taken from the Northern Beaufort Sea population, Canada for personal use.

Notice is hereby given that on August 7, 2000, as authorized by the provisions of the Marine Mammal Protection Act of 1972, as amended (16 U.S.C. 1361 et seq.) the Fish and Wildlife Service authorized the requested permit subject to certain conditions set forth therein.

Dated: August 11, 2000.
Charlie Chandler,
International Chief, Branch of Permits, Office of Management Authority.

[FR Doc. 00-20976 Filed 8-16-00; 8:45 am]

BILLING CODE 4310-55-P